DEPARTMENT OF THE INTERIOR

Fish and Wildlife Service

Notice of Extension To Prepare a Draft Environmental Impact Statement for the Swanson River Satellites Natural Gas Project, Kenai National Wildlife Refuge, Alaska

AGENCY: Fish and Wildlife Service, Interior.

ACTION: Notice.

SUMMARY: This notice advises the public that the U.S. Fish and Wildlife Service (USFWS) is extending the period to prepare a draft environmental impact statement (DEIS) for the Swanson River Satellites Natural Gas project beyond the nine months prescribed in Title XI of the Alaska National Interest Lands Conservation Act (ANILCA). Preparation of the DEIS will be extended for an additional nine months to allow for the USFWS, cooperating agencies, and the right-of-way applicant to collectively identify and refine the project alternatives that will be evaluated in the DEIS.

DATES: A Notice of Availability of the DEIS is scheduled to be published July 19, 2002.

ADDRESSES: Comments regarding this notice should be directed to: Regional Director, Region 7, U.S. Fish and Wildlife Service, 1011 E. Tudor Road, Anchorage, Alaska 99503.

FOR FURTHER INFORMATION CONTACT: Brian L. Anderson, (907) 786-3379.

SUPPLEMENTARY INFORMATION: On January 29, 2001, Union Oil Company of California d.b.a. Unocal filed an application with the USFWS for a right-of-way permit to construct the Swanson River Satellites Natural Gas project within the Kenai National Wildlife Refuge (KNWR). The application was also filed with the Bureau of Land Management, and the U.S. Army Corps of Engineers, both of which are cooperating agencies for the environmental review. A notice of intent to prepare an environmental impact statement for the project was published in the Federal Register on February 27, 2001 (66 FR 12541). Regulations implementing Title XI of ANILCA require that, when necessary, a DEIS be prepared within nine months of the date the application was filed [43 CFR 36.6 (1)]. These regulations also provide for an extension of the nine-month period for a reasonable specific time, if the lead agency determines, for good cause, that the period is insufficient [43 CFR 36.6 (2)].

As lead agency, the USFWS has determined, in consultation with the applicant, that the nine-month period is not sufficient to develop reasonable project alternatives for this large and complex project. An additional nine months will be necessary for the applicant and the cooperating federal agencies to conduct the engineering and environmental studies needed to identify project alternatives that would constitute adequate and feasible access for development of the project while protecting, to the greatest extent practicable, the resources of the KNWR.

This environmental review is being conducted in accordance with the requirements of NEPA (42 U.S.C. 4371 et seq.) as implemented by the Council on Environmental Quality regulations at 40 CFR 1500-1508, and the pertinent regulations of USFWS. Upon completion of the Draft EIS, a Notice of Availability will be published in the Federal Register.

Gary Edwards,
Acting Regional Director, Region 7, Fish and Wildlife Service.

[FR Doc. 01-25162 Filed 10-5-01; 8:45 am]

BILLING CODE 4310-55-P